DEPARTMENT OF ENERGY

Federal Energy Regulatory Commission

[Project No. 4679-050]

New York Power Authority; Notice of Technical Conference

On Wednesday, November 8, 2023, Commission staff will hold a technical conference to provide clarification to New York Power Authority regarding Commission staff's additional information request (AIR) issued August 7, 2023, for the Vischer Ferry Hydroelectric Project No. 4679.¹

¹ Commission staff's letter requesting additional information is available at: https://elibrary.ferc.gov/eLibrary/filelist?accession_number=20230807-3020&optimized=false.

The conference will be held via teleconference beginning at 1:00 p.m. Eastern Standard Time. Discussion topics for the technical conference include: (1) Engineering analysis of project-related flooding impacts (AIR number 2), and (2) Stability analysis and revised Supporting Design Report (AIR number 3).

All local, state, and federal agencies, Indian tribes, and other interested parties are invited to participate. There will be no transcript of the conference, but a summary of the meeting will be prepared for the project record. If you are interested in participating in the meeting you must contact Jody Callihan at (202) 502-8278 or jody.callihan@ferc.gov by November 6, 2023 to receive specific instructions on how to participate.

Dated: October 25, 2023.
Kimberly D. Bose,
Secretary.

[FR Doc. 2023-24038 Filed 10-31-23; 8:45 am]

BILLING CODE 6717-01-P